DEPARTMENT OF THE INTERIOR

National Park Service

[NPS-WASO-NAGPRA-15911; PPWOCRADN0-PCU00RP14.R50000]

Notice of Intent To Repatriate Cultural Items: County of Titus, Mount Pleasant, TX

AGENCY: National Park Service, Interior.

ACTION: Notice.

SUMMARY: Titus County, Mount Pleasant, TX, in consultation with the appropriate Indian tribes or Native Hawaiian organizations, has determined that the cultural items listed in this notice meet the definition of unassociated funerary objects or objects of cultural patrimony. Lineal descendants or representatives of any Indian tribe or Native Hawaiian organization not identified in this notice that wish to claim these cultural items should submit a written request to Titus County. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Titus County at the address in this notice by July 24, 2014.

ADDRESSES: Terry Plucker, Titus County, P.O. Box 9389, The Woodlands, TX 77387, telephone (936) 441-9121.

SUPPLEMENTARY INFORMATION: Notice is here given in accordance with the Native American Graves Protection and Repatriation Act (NAGPRA), 25 U.S.C. 3005, of the intent to repatriate cultural items under the control of Titus County, Mount Pleasant, TX, that meet the definition of unassociated funerary objects or objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between January and June 2010, 15 cultural items were removed from the William Ford (41TT852), James Richey (41TT853), and the George Richey (41TT851) sites, as part of the environmental clearance for the US 271 Relief Route project, which passes to the west of Mount Pleasant, in Titus County, TX. A total of 11 sites were identified for further testing to assess their eligibility for listing in the National Register of Historic Places and designation as State Archeological Landmarks, and the three sites listed above were identified for data recovery excavations. These three sites are Caddo farmsteads dating from the Middle Caddo to Late Caddo periods.

Five cultural items were removed from the William Ford site (41TT852) from one burial (Feature 164) and one probable burial (Feature 542A). The cultural items from Feature 164 are one Ripley Engraved carinated bowl, one medium-sized untyped jar, one large undecorated jar in two sections, and one clump of dark reddish brown clay. The bowl was situated on the east side of the pit, and the two jars and clay clump were on the west side with the smaller jar sitting on top of the larger one. The cultural item from Feature 542A is one small undecorated, untyped jar. The objects were removed a specific burial site of a Native American individual and meet the definition of unassociated funerary objects under 25 U.S.C. 3001.

Eight cultural items were removed from the James Richey site (41TT853) from three separate burials (Feature 2, Feature 18, and Feature 25). The cultural items from Feature 2 are one Maydelle Incised jar, one small simple effigy bowl, and one grooved stone tool. The effigy bowl was placed along the north wall on the east side; the Maydelle jar was about 60 cm from the north end on the west side; and the grooved stone was on the east side about 50 cm from the north end. The cultural items from Feature 18 are two small bowls and one small jar. The cultural items from Feature 25 are one undecorated small jar and one small to medium-sized simple bowl. The objects were removed a specific burial site of a Native American individual and meet the definition of unassociated funerary objects under 25 U.S.C. 3001.

Two cultural items were removed from the George Richey site (41TT851). The cultural items are two effigy bowl sherds. No evidence of burials were found at this site. The Caddo Nation of Oklahoma has identified these two objects as have ongoing historical, traditional, or cultural importance central to the Caddo Nation of Oklahoma under 25 U.S.C. 3001.

The Texas Department of Transportation (TXDOT) contracted for the initial archeological survey work and conducted consultation on the entire project with the Caddo Nation of Oklahoma. On January 29, 2013, TXDOT informed the Caddo Nation of Oklahoma the Titus County would be handling NAGPRA consultation. The Caddo Nation of Oklahoma subsequently submitted a claim for these items under NAGPRA.

Determinations Made By Titus County

Officials of Titus County have determined that:

• Pursuant to 25 U.S.C. 3001(3)(B), 13 of the cultural items described above are reasonably believed to have been placed with or near individual human remains at the time of death or later as part of the death rite or ceremony and are believed, by a preponderance of the evidence, to have been removed from a specific burial site of a Native American individual.

• Pursuant to 25 U.S.C. 3001(3)(D), 2 of the cultural items described above have ongoing historical, traditional, or cultural importance central to the Native American group or culture itself, rather than property owned by an individual.

• Pursuant to 25 U.S.C. 3001(2), there is a relationship of shared group identity that can be reasonably traced between the cultural items and the Caddo Nation of Oklahoma.

Additional Requestors and Disposition

Lineal descendants or representatives of any Indian tribe or Native Hawaiian organization not identified in this notice that wish to claim these cultural items should submit a written request with information in support of the claim to Terry Plucker, Titus County, P.O. Box 9389, The Woodlands, TX 77387, telephone (936) 441-9121, by July 24, 2014. After that date, if no additional claimants have come forward, transfer of control of the unassociated funerary objects or objects of cultural patrimony to the Caddo Nation of Oklahoma may proceed.

Titus County is responsible for notifying the Caddo Nation of Oklahoma that this notice has been published.

Dated: May 29, 2014.
David Tarler,
Acting Manager, National NAGPRA Program.

[FR Doc. 2014-14758 Filed 6-23-14; 8:45 am]

BILLING CODE 4312-50-P